GENERAL SERVICES ADMINISTRATION

Notice of the Availability of the Final Environmental Impact Statement for a Proposed Department of Transportation Headquarters

AGENCY: General Services Administration, National Capital Region; Department of Transportation.

ACTION: Proposed lease acquisition of a new or renovated headquarters for the Department of Transportation in the Central Employment Area of Washington, DC.

SUMMARY: The General Services Administration (GSA) announces the availability of the Final Environmental Impact Statement (Final EIS) for the proposed lease acquisition of a new or renovated headquarters for the Department of Transportation (DOT) in the Central Employment Area (CEA) of Washington, DC.

Background Information

DOT seeks to update its facilities, maximize efficiency, and reorganize and consolidate its operations. To this end, GSA is currently conducting a competitive procurement of 1.35 million rentable square feet of new or renovated space under an operating lease for a term of fifteen years.

Consolidation in a new or renovated headquarters will produce significant operating efficiencies in support of DOT's mission.

The Government has conducted this procurement as a negotiated, best value source selection. The procurement process was developed with full integration of the NEPA process, incorporating NEPA compliance into the agency's decision-making framework. This has resulted in full public participation and submission of final proposals that address potential environmental impacts. The Government's evaluation of proposals considered an Offeror's ability and willingness to address impacts and implement proposed mitigation measures identified through the NEPA process, including public comments received on the Final EIS.

Final EIS Availability

Copies of the Final EIS will be available for review at the locations identified below. In addition, the Final EIS and other information regarding this project are available on the Internet at http://www.evolv.com/DOT.

The Final EIS may be reviewed at the following locations:

1. Department of Transportation, Dockets Room, PL-401, 400 7th Street, SW., Washington, DC 20590

2. Martin Luther King Library, 9th & G Streets, NW., Washington, DC

3. Public Affairs Office, Navy, Bldg. 200, 2nd Floor, Wing 1 North, Washington Navy Yard, Washington, DC

GSA encourages Federal, regional, state and local agencies, and interested individuals and groups, to take this opportunity to review the Final EIS and make written comments.

Project Information

Topics of environmental analysis presented in the Final EIS include short term impacts of construction and long-term impacts of site operations and maintenance on land use, historic resources, visual resources, physical and biological resources, public transportation, traffic and parking, public services and utilities, and socio-economic conditions. The environmental analysis also addresses cumulative impacts that would result from this and other development projects that have been completed recently, are currently under development, and are proposed within each study area.

Written comments on the Final EIS must be postmarked no later than August 27, 2001, to the following address: General Services Administration, Attn: Mr. John Simeon, Portfolio Development Division (WPC), 7th and D Streets, SW., Suite 2002, Washington, DC 20407.

FOR FURTHER INFORMATION CONTACT: For further information or to request a copy of the final EIS, please contact Mr. John Simeon, General Services Administration, (202) 260-5786.

Dated: July 18, 2001.
Anthony E. Costa,
Assistant Regional Administrator, National Capital Region, General Services Administration.

[FR Doc. 01-18477 Filed 7-24-01; 8:45 am]

BILLING CODE 6820-BR-M